DEPARTMENT OF LABOR

Employment and Training Administration

[TA-W-56,566B]

Devilbiss Air Power Company, Subsidiary of Black and Decker Compressors/Generators Division, Jackson, TN; Notice of Termination of Investigation

Pursuant to Section 221 of the Trade Act of 1974, as amended, an investigation was initiated on February 14, 2005 in response to a petition filed by a company official on behalf of workers at DeVilbiss Air Power Company, subsidiary of Black and Decker, Compressors/Generators Division, Jackson, Tennessee.

The petitioner has requested that the petition be withdrawn. Consequently, the investigation has been terminated.

Signed at Washington, DC this 30th day of March, 2005.
Elliott S. Kushner,
Certifying Officer, Division of Trade Adjustment Assistance.

[FR Doc. E5-1929 Filed 4-22-05; 8:45 am]

BILLING CODE 4510-30-P